DEPARTMENT OF TRANSPORTATION

Federal Aviation Administration

Forty Sixth RTCA SC-224 Plenary

AGENCY: Federal Aviation Administration (FAA), U.S. Department of Transportation (DOT).

ACTION: Forty Sixth RTCA SC-224 Plenary.

SUMMARY: The FAA is issuing this notice to advise the public of a meeting of Forty Sixth RTCA SC-224 Plenary.

DATES: The meeting will be held February 02, 2017 10:00 a.m.-01:00 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street, NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Forty Sixth RTCA SC-224 Plenary. The agenda will include the following:

Thursday, February 2, 2017-10:00 a.m.-1:00 p.m.

1. Welcome/Introductions/Administrative Remarks

2. Review/Approve Previous Meeting Summary

3. Report on TSA participation

4. Report on the New Guidelines and other Safe Skies Reports

5. Review of DO-230H Sections

6. Terms of Reference Revisions

7. Action Items for Next Meeting

8. Time and Place of Next Meeting

9. Any Other Business

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on December 14, 2016.
Mohannad Dawoud,
Management & Program Analyst, Partnership Contracts Branch, ANG-A17, NextGen, Procurement Services Division, Federal Aviation Administration.

[FR Doc. 2016-30511 Filed 12-19-16; 8:45 am]

BILLING CODE 4910-13-P